FEDERAL COMMUNICATIONS COMMISSION

Notice of Public Information Collection(s) Being Reviewed by the Federal Communications Commission

March 7, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 14, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0912.

Title: Cable Attribution Rates.

Form No.: N/A.

Type of Review: Extension of a currently approved collection.

Respondents: Individuals or households, business or other for-profit.

Number of Respondents: 20.

Estimated Time Per Response: 4 hours.

Frequency of Response: On occasion reporting requirement.

Total Annual Burden: 80 hours.

Total Annual Cost: $3,200.

Needs and Uses: Filings will be used by the Commission to determine the nature of the corporate, financial, partnership, ownership and other business relationships that confer on their holders a degree of ownership or other economic interest, or influence or control over an entity engaged in the provision of communications services such that the holders are subject to the Commission's regulations.

The Commission requested emergency clearance for this submission. The request was approved by OMB on February 9, 2000. We are now requesting an extension of the emergency approval to obtain the full three-year OMB approval.

OMB Control No.: 3060-0466.

Title: Section 74.1283, Station Identification.

Form No.: N/A.

Type of Review: Extension of a currently approved collection.

Respondents: Business or other for-profit.

Number of Respondents: 650.

Estimated Time Per Response: .166 hours (10 minutes).

Frequency of Response: Recordkeeping requirement and on occasion reporting requirement.

Total Annual Burden: 108 hours.

Total Annual Cost: N/A.

Needs and Uses: Section 74.1283(c)(1) requires FM translator stations whose station identification is made by the primary station to furnish current information on the translator's call letters and location. The information is kept in the primary station's files. The information is used to contact the translator licensee in the event of a malfunction of the translator.

OMB Control No.: 3060-0249.

Title: Section 74.781, Station Records.

Form No.: N/A.

Type of Review: Extension of a currently approved collection.

Respondents: Business or other for-profit, not-for-profit institutions, state, local or tribal government.

Number of Respondents: 7,100.

Estimated Time Per Response: 1 hour.

Frequency of Response: Recordkeeping requirement.

Total Annual Burden: 5,503 hours.

Total Annual Cost: $639,000.

Needs and Uses: Section 74.781 requires licensees of low power television, TV translator and TV booster stations to maintain adequate records. The records are used by FCC staff in field inspections to assure that reasonable measures are taken to maintain proper station operations and to assure compliance with the Commission's Rules.

OMB Control No.: 3060-0208.

Title: Section 73.1870, Chief Operators.

Form No.: N/A.

Type of Review: Extension of a currently approved collection.

Respondents: Business or other for-profit, not-for-profit institutions.

Number of Respondents: 14,500.

Estimated Time Per Response: .166 hours (10 minutes).

Frequency of Response: Recordkeeping requirement.

Total Annual Burden: 379,407 hours.

Total Annual Cost: N/A.

Needs and Uses: Section 73.1870 requires licensees of radio and television stations to designate chief operators and post designation with operator license. This rule section also requires chief operators to review station records weekly. The data is used by the chief operator, and FCC staff in investigations, to assure that the station is operating in accordance with the station authorization.

Federal Communications Commission.

Magalie Roman Salas,
Secretary.

[FR Doc. 00-6339 Filed 3-14-00; 8:45 am]

BILLING CODE 6712-01-P